DEPARTMENT OF JUSTICE

Antitrust Division

Notice Pursuant to the National Cooperative Research and Production Act of 1993—Members of SGIP 2.0, Inc.

Notice is hereby given that, on November 9, 2016, pursuant to Section 6(a) of the National Cooperative Research and Production Act of 1993, 15 U.S.C. 4301 et seq. (“the Act”), Members of SGIP 2.0, Inc. (“MSGIP 2.0”) has filed written notifications simultaneously with the Attorney General and the Federal Trade Commission disclosing changes in its membership. The notifications were filed for the purpose of extending the Act's provisions limiting the recovery of antitrust plaintiffs to actual damages under specified circumstances. Specifically, NEXTera ENERGY, Juno Beach, FL; India Smart Grid, New Delhi, INDIA; and Entergy, The Woodlands, TX, have been added as parties to this venture.

Also, California Public Utilities Commission, San Francisco, CA; CeteCom, Milpitas, CA; Ernst & Young, London, UNITED KINGDOM; Iteros (formerly CleanSpark LLC), San Diego, CA; Kitu Systems, Inc. (formerly Grid2Home), San Diego, CA; North America Energy Standards Board (NAESB), Houston, TX; Opus One Solutions, Richmond Hill, CANADA; SmartCloud, Inc., Bedford, MA; Tacoma Power, Tacoma, WA; The University of Tokyo, Tokyo, JAPAN; and Ward Bower Innovations LLC, Albuquerque, NM, have withdrawn as parties to this venture.

No other changes have been made in either the membership or planned activity of the group research project. Membership in this group research project remains open, and MSGIP 2.0 intends to file additional written notifications disclosing all changes in membership.

On February 5, 2013, MSGIP 2.0 filed its original notification pursuant to Section 6(a) of the Act. The Department of Justice published a notice in the Federal Register pursuant to Section 6(b) of the Act on March 7, 2013 (78 FR 14836).

The last notification was filed with the Department on August 10, 2016. A notice was published in the Federal Register pursuant to Section 6(b) of the Act on September 20, 2016 (81 FR 64508).

Patricia A. Brink,
Director of Civil Enforcement, Antitrust Division.

[FR Doc. 2016-29877 Filed 12-12-16; 8:45 am]

BILLING CODE P